DEPARTMENT OF HOMELAND SECURITY

Coast Guard

46 CFR Parts 30, 150 and 153

[Docket No. USCG-2013-0423]

RIN 1625-AB94

2013 Liquid Chemical Categorization Updates

AGENCY: Coast Guard, DHS.

ACTION: Correcting amendments.

SUMMARY: In April 2020, the Coast Guard published a final rule updating the Liquid Chemical Categorization tables, aligning them with the International Code for the Construction and Equipment of Ships Carrying Dangerous Chemicals in Bulk and the International Maritime Organization's Marine Environment Protection Committee circulars from December 2012 and 2013. In May 2020, the Coast Guard published amendments to correct minor typographical errors in those regulations. Some minor corrections still need to be made. This document corrects the tables in the final regulations.

DATES: Effective on August 5, 2021.

FOR FURTHER INFORMATION CONTACT: LCDR Daniel Velez, Coast Guard; telephone 202-372-1419, email Daniel.velez@uscg.mil, or Dr. Raghunath Halder, Coast Guard; telephone (202) 372-1422, email Raghunath.Halder@uscg.mil.

SUPPLEMENTARY INFORMATION: The Coast Guard published the 2012 Liquid Chemical Categorization Updates interim rule on August 16, 2013 (Volume 78 of the Federal Register (FR) at Page 50147). We published a supplemental notice of proposed rulemaking (SNPRM) on October 22, 2015 (80 FR 64191) and published a final rule on April 17, 2020 (85 FR 21660). On May 8, 2020, we published a correcting amendment to that final rule (85 FR 27308).

During development of the May 8, 2020, amendment, the Coast Guard identified errors that prompted a more extensive review. That review has resulted in this correcting amendment, which, among other corrections, re-alphabetizes certain lists of chemicals, removes duplicate chemicals, and resolves minor typographical errors such as italicization. The interim rule, the SNPRM, the final rule, the May 2020 correction, and this document all share the same docket number.

As the errors are not substantive, and correcting them aligns the final text with the stated purpose of the rulemaking, the Coast Guard finds that additional notice and opportunity for public comment is unnecessary under Title 5 of the United States Code (U.S.C.), Section 553(b). For the same reasons, and to forestall any confusion caused by incorrect text, the Coast Guard finds good cause under 5 U.S.C. 553(d) to make the corrected text effective upon publication in the Federal Register.

Accordingly, 46 CFR parts 30, 150, and 153 are corrected by making the following correcting amendments:

List of Subjects

46 CFR Part 30

Cargo vessels, Foreign relations, Hazardous materials transportation, Penalties, Reporting and recordkeeping requirements, Seamen.

46 CFR Part 150

Hazardous materials transportation, Marine safety, Occupational safety and health, Reporting and recordkeeping requirements.

46 CFR Part 153

Administrative practice and procedure, Cargo vessels, Hazardous materials transportation, Marine safety, Reporting and recordkeeping requirements, Water pollution control.

Therefore, the Coast Guard amends 46 CFR parts 30, 150, and 153 as follows.

PART 30—GENERAL PROVISIONS

1. The authority citation for part 30 continues to read as follows:

Authority: 46 U.S.C. 2103, 3306, 3703, Department of Homeland Security Delegation No. 0170.1 (II)(92)(a), (92)(b).

2. In § 30.25-1, amend Table 30.25-1 as follows:

a. Remove the entry for “Barium long-chain (C11-C50) alkaryl sulfonate” and add an entry for “Barium long-chain (C11-C50) alkaryl sulfonate (alternately sulphonate)” in its place;

b. After the entry for “Diethylene glycol ethyl ether, see Poly(2-8)alkylene glycol monoalkyl (C1-C6) ether.”, add an entry for “Diethylene glycol ethyl ether acetate, see Poly(2-8)alkylene glycol monoalkyl (C1-C6) ether acetate”;

c. Redesignate the entries for “2-Methylpyridine”, “3-Methylpyridine”, and “4-Methylpyridine” to follow the entry for “Methyl propyl ketone”;

d. Remove the entry for “Nonanoic, Tridecanoic acid mixture” and add an entry for “Nonanoic/Tridecanoic acid mixture” in its place; and

e. Remove the entry for “Rapeseed acid oil” .

The additions read as follows:

§ 30.25-1 Cargoes carried in vessels certificated under the rules of this subchapter.

* * * * *

Table 30.25-1—List of Flammable and Combustible Bulk Liquid Cargoes
Cargo name | IMO Annex II pollution category
* * * * * * *
Barium long-chain (C11-C50) alkaryl sulfonate “(alternately sulphonate) | Y
* * * * * * *
Diethylene glycol ethyl ether acetate, see Poly(2-8)alkylene glycol monoalkyl (C1-C6) ether acetate |
* * * * * * *
Nonanoic/Tridecanoic acid mixture | #
* * * * * * *

PART 150—COMPATIBILITY OF CARGOES

3. The authority citation for part 150 continues to read as follows:

Authority: 46 U.S.C. 3306, 3703; Department of Homeland Security Delegation No. 0170.1. Section 150.105 issued under 44 U.S.C. 3507; Department of Homeland Security Delegation No. 0170.1.

4. Amend Table 1 to Part 150 as follows:

a. Remove the entry for “Alkyl phenol sulfide (alternately sulphide) (C8-C40), see Alkyl (C8-C40) phenol sulfide”, and add an entry for “Alkyl phenol sulfide (alternately sulphide) (C8-C40), see Alkyl (C8-C40) phenol sulfide (alternately sulphide)” in its place;

b. Remove the entry for “Ammonium lignosulfonate (alternately lignosulphonate) solution, see also Lignin liquor”, and add an entry for “Ammonium lignosulfonate (alternately lignosulphonate) solution, see also Lignin liquor” in its place;

c. Revise the entries for “Butyl alcohol (all isomers)”, “Coconut oil, see Oil, edible: Coconut”, “Dodecylbenzene, see Alkyl (C9+)”, “Ethylene glycol ethyl ether acetate, see 2-Ethoxyethyl acetate”, “Fuming sulfuric (alternately sulphuric) acid, see”, “Gas oil, cracked, see Oil, misc.: Gas,”, “Groundnut oil, see Oil, edible: Groundnut”, and “Jatropha oil, see Oil, misc.: Jatropha”;

d. After the entry for “Monochlorodifluoromethane”, add an entry for “Monoethanolamine, see Ethanolamine”;

e. Revise the entry for “Nitric acid (70% and over)”;

f. Under the entry “Oil, edible:”, revise the subentries for “Coconut” and “Cotton seed”; and

g. Revise the entry for “Vegetable oils, n.o.s.”, and the subentry, “Jatropha oil”.

The revisions and additions read as follows:

Table 1 to Part 150—Alphabetical List of Cargoes
Alkyl phenol sulfide (alternately sulphide) (C8-C40), see Alkyl (C8-C40) phenol sulfide (alternately sulphide) |  |  |  | AKS
* * * * * * *
Ammonium lignosulfonate (alternately lignosulphonate) solution, see also Lignin liquor |  |  | ALG | LNL
* * * * * * *
Butyl alcohol (all isomers) | 20 | 2, 3 | BAY | BAN/BAS/BAT/IAL
* * * * * * *
Coconut oil, see Oil, edible: Coconut |  | 2 |  | OCC (VEO)
* * * * * * *
Dodecylbenzene, see Alkyl (C9+) benzenes |  |  | DDB | AKB
* * * * * * *
Ethylene glycol ethyl ether acetate, see 2-Ethoxyethyl acetate |  | 2 | EGA | EEA
* * * * * * *
Fuming sulfuric (alternately sulphuric) acid, see Oleum |  | 2
* * * * * * *
Gas oil, cracked, see Oil, misc.: Gas, cracked |  |  |  | GOC
* * * * * * *
Groundnut oil, see Oil, edible: Groundnut |  |  |  | OGN (VEO)
* * * * * * *
Jatropha oil, see Oil, misc.: Jatropha |  |  |  | JTO
* * * * * * *
Monoethanolamine, see Ethanolamine |  |  | MEA
* * * * * * *
Nitric acid (70% and over) | 3 | 2, 3 | NCE | NAC/NCD
* * * * * * *
Oil, edible:
* * * * * * *
Coconut | 34 | 2 | OCC | VEO
* * * * * * *
Cottonseed | 34 |  | OCS | VEO
* * * * * * *
Vegetable oils, n.o.s | 34 |  | VEO
* * * * * * *
Jatropha oil | 34 |  | JTO
* * * * * * *

* * * * *

5. Amend table 2 to part 150 as follows:

a. Remove the following entries:

i. Under Group 4, the second entry for “Acetic Acid.¹”;

ii. Under Group 34, the second (duplicate) entries for “Polymethylsiloxane.”, “Polyolefin aminoester salts (molecular weight 2000+)”, “Polyolefin ester (C28-C250)”, “Polyolefin phosphorosulfide (alternately phosphorosulphide), barium derivative (C28-C250)”, and “Poly(20)oxyethylene sorbitan monooleate” ;

iii. Under Group 41, the second (duplicate) entry for “Methyl tert-pentyl ether”;

iv. Under Group 42, “Nitropropane, Nitroethane mixtures”; and

v. Under Group 43, the second (duplicate) entries for “Alkyl (C8-C10) polyglucoside solution (65% or less)” and “Alkyl (C8-C10)/(C12-C14):(60% or more/40% or less) polyglucoside solution (55% or less).”;

b. Under Group 0, after

i. Remove the entry, “Alkylbenzene sulfonic (alternately sulphonic) acid (less than 4%)” and add an entry for “Alkylbenzene sulfonic (alternately sulphonic) acid (less than 4%)¹” in its place ; and

ii. After the entry for “n-Octyl Mercaptan”, add an entry for “Oleum ¹ ”;

c. Under Group 15:

i. After the entry for “Acrylonitrile.¹”, add an entry for “Allyl alcohol ¹ ”; and

d. Under Group 16, remove the entry for “Ethylene oxide/Propylene oxide mixture with an Ethylene oxide content not more than 30% by mass)” and add an entry for “Ethylene oxide/Propylene oxide mixture with an Ethylene oxide content not more than 30% by mass” in its place;

e. Under Group 17, after the entry for “Chlorohydrins”, add an entry for “Chlorohydrins (crude)”;

f. Under Group 34:

i. Redesignate the entry for “Calcium long-chain alkyl (C18-C28) salicylate” to its proper placement in alphabetical order after the entry for “Calcium long-chain alkyl (C11-C40) phenate.”;

ii. Remove the entry for “Calcium long chain alkyl salicylate (C13 +)”and add an entry for “Calcium long-chain alkyl salicylate (C13+)” in its place;

iii After the entry for “Isopropyl acetate”, add an entry for “Lauric acid”;

iv. Under the entry for “Poly (2-8)alkylene glycol monoalkyl (C1-C6) ether acetate:”, indent the sub-entries, “Diethylene glycol butyl ether acetate.”, “Diethylene glycol ethyl ether acetate.”, and “Diethylene glycol methyl ether acetate.”; and

v. Redesignate the entry for “2,2,4-Trimethyl-1,3-pentanediol-1-isobutyrate” to follow the entry for “2,2,4-Trimethyl-1,3-pentanediol diisobutyrate.”;

g. Under Group 40:

i. Redesignate the entry for “Diethylene glycol.¹” to follow the entry for “Alkyl (C9-C15) phenyl propoxylate.”; and

ii. Remove the entry for “Diethetylene glycol phenyl ether.r” by removing “ether.r” and, add an entry for “Diethetylene glycol phenyl ether” in its place;

h. Under Group 42, after the entry for “Nitroethane”, add an entry for “Nitroethane (80%)/Nitropropane (20%)”; and

i. Under Group 43, after the entry for “Alkyl (C8-C10)/(C12-C14):(40% or less/60% or more) polyglucoside solution (55% or less)”, add an entry for “Alkyl (C8-C10)/(C12-C14):(50%/50%) polyglucoside solution (55% or less)”.

The revisions and additions read as follows:

Table 2 to Part 150—Grouping of Cargoes
* * * * * * *
0. Unassigned Cargoes
* * * * * * *
| Alkylbenzene sulfonic (alternately sulphonic) acid (less than 4%) 1.
* * * * * * *
| Oleum 1.
* * * * * * *
15. Substituted Allyls
* * * * * * *
| Allyl alcohol 1.
* * * * * * *
16. Alkylene Oxides
* * * * * * *
| Ethylene oxide/Propylene oxide mixture with an Ethylene oxide content not more than 30% by mass.
* * * * * * *
17. Epichlorohydrins
* * * * * * *
| Chlorohydrins (crude).
* * * * * * *
34. Esters
* * * * * * *
| Calcium long-chain alkyl salicylate (C13+).
* * * * * * *
| Lauric acid.
* * * * * * *
| Sodium dimethyl naphthalene sulfonate (alternately sulphonate) solution.1
* * * * * * *
40. Glycol Ethers
* * * * * * *
| Diethetylene glycol phenyl ether
* * * * * * *
42. Nitrocompounds
* * * * * * *
| Nitroethane (80%)/Nitropropane (20%).
* * * * * * *
43. Miscellaneous Water Solutions
* * * * * * *
| Alkyl (C8-C10)/(C12-C14):(50%/50%) polyglucoside solution (55% or less).
* * * * * * *

* * * * *

Appendix 1 to Part 150 [Amended]

6. Amend appendix 1 to part 150 in the table in paragraph (a) as follows:

a. In the “Member of reactive group” column, remove the entry for “Dimethyl disulfide (0)” and add an entry for “Dimethyl disulfide (alternately disulphide) (0)” in its place; and

b. In the “Member of reactive group” column, amend entry for “Ethylenediamene (7)” by removing its subentry for “Fatty alcohols (C12-C14).” in the “Compatible with” column and adding an entry for “Fatty alcohols (C12-C14)(20).” in its place.

PART 153—COMPATIBILITY OF CARGOES

7. The authority citation for part 153 continues to read as follows:

Authority: 46 U.S.C. 3703; Department of Homeland Security Delegation No. 0170.1. Section 153.40 issued under 49 U.S.C. 5103. Sections 153.470 through 153.491, 153.1100 through 153.1132, and 153.1600 through 153.1608 also issued under 33 U.S.C. 1903 (b).

8. Amend table 2 to part 153 as follows:

a. Remove the entry for “Urea/Ammonium nitrate solution *” and add an entry for “Urea/Ammonium nitrate solution” in its place; and

b. Remove the entry for “Urea/Ammonium phosphate solution ”with pollution category “Z” and add in its place an entry for “Urea/Ammonium phosphate solution” with pollution category “Y”.

The additions read as follows:

Table 2 to Part 153—Cargoes Not Related Under Subchapters D or O of This Chapter When Carried in Bulk on Non-Oceangoing Barges
* * * * *
Cargoes | Pollution category
* * * * * * *
Urea/Ammonium nitrate solution | Z
Urea/Ammonium phosphate solution | Y
* * * * * * *

Dated: July 16, 2021.
Michael Cunningham,
Chief, Office of Regulations and Administrative Law, U.S. Coast Guard.

[FR Doc. 2021-15740 Filed 8-4-21; 8:45 am]

BILLING CODE 9110-04-P